DEPARTMENT OF COMMERCE

National Oceanic and Atmospheric Administration

50 CFR Part 665

[Docket No. 130625564-3821-02]

RIN 0648-XC736

Main Hawaiian Islands Deep 7 Bottomfish Annual Catch Limits and Accountability Measures for 2013-14

AGENCY: National Marine Fisheries Service (NMFS), National Oceanic and Atmospheric Administration (NOAA), Commerce.

ACTION: Final specifications.

SUMMARY: NMFS specifies an annual catch limit of 346,000 lb of Deep 7 bottomfish in the main Hawaiian Islands for the 2013-14 fishing year. The action supports the long-term sustainability of Hawaii bottomfish.

DATES: The final specifications are effective October 28, 2013, through August 31, 2014, unless NMFS publishes a document in the Federal Register superseding these specifications.

ADDRESSES: Copies of the Fishery Ecosystem Plan for the Hawaiian Archipelago are available from the Western Pacific Fishery Management Council (Council), 1164 Bishop St., Suite 1400, Honolulu, HI 96813, tel 808-522-8220, or www.wpcouncil.org.

FOR FURTHER INFORMATION CONTACT: Jarad Makaiau, Sustainable Fisheries, NMFS Pacific Islands Region (PIR), 808-944-2108.

SUPPLEMENTARY INFORMATION: On August 22, 2013, NMFS published proposed specifications, finalized here, and a request for public comments (78 FR 52125). Additional background information on this action is found in the preamble to the proposed specifications, and is not repeated here.

Through this action, NMFS is specifying an annual catch limit (ACL) of 346,000 lb of Deep 7 bottomfish in the main Hawaiian Islands (MHI) for the 2013-14 fishing year. This ACL is the same as was set for the 2012-13 fishing year. The MHI Management Subarea is the portion of U.S. Exclusive Economic Zone around the Hawaiian Archipelago lying to the east of 161° 20″ W. longitude. The Deep 7 bottomfish are onaga (Etelis coruscans), ehu (E. carbunculus), gindai (Pristipomoides zonatus), kalekale (P. sieboldii), opakapaka (P. filamentosus), lehi (Aphareus rutilans), and hapuupuu (Epinephelus quernus). The Council recommended the ACL based on the best available scientific, commercial, and other information, taking into account the associated risk of overfishing.

The MHI bottomfish fishing year started September 1, 2013. NMFS will monitor the fishery, and if the ACL is reached before August 31, 2014, NMFS will, as an associated accountability measure (AM) close the non-commercial and commercial fisheries for Deep 7 bottomfish in Federal waters through August 31, 2014. During a fishery closure for Deep 7 bottomfish, no person may fish for, possess, or sell any of these fish in the MHI. There is no prohibition on fishing for or selling other non-Deep 7 bottomfish species throughout the year. All other management measures continue to apply in the MHI bottomfish fishery.

Comments and Responses

The comment period for the proposed specifications ended on September 6, 2013. NMFS received one public comment and responds as follows:

Comment 1: The commenter supports the ACL and associated AM, but questioned why the comment period for the proposed specifications ended after the start of the fishing year.

Response: The time that NMFS needed to complete supporting analyses for this action resulted in the delayed comment period. Because NMFS does not expect the fishery to reach the ACL until very late in the fishing year, if at all, the timing of the comment period and resulting effective date of the final specifications do not affect management of the fishery.

Changes From the Proposed Specifications

There are no changes in the final specifications.

Classification

The Regional Administrator, NMFS PIR, determined that this action is necessary for the conservation and management of MHI Deep 7 bottomfish, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. NMFS published the factual basis for certification in the proposed specifications, and does not repeat it here. NMFS did not receive comments regarding this certification. As a result, a final regulatory flexibility analysis is not required, and none was prepared.

This action is exempt from review under Executive Order 12866.

Authority: 16 U.S.C. 1801 et seq.

Dated: September 23, 2013.
Alan D. Risenhoover,
Director, Office of Sustainable Fisheries, performing the functions and duties of the Deputy Assistant Administrator for Regulatory Programs, National Marine Fisheries Service.

[FR Doc. 2013-23675 Filed 9-26-13; 8:45 am]

BILLING CODE 3510-22-P